ENVIRONMENTAL PROTECTION AGENCY

40 CFR Parts 60

[EPA-HQ-OAR-2021-0317; FRL-8510-04-OAR]

RIN 2060-AV16

Standards of Performance for New, Reconstructed, and Modified Sources and Emissions Guidelines for Existing Sources: Oil and Natural Gas Sector Climate Review; Extension of Comment Period

AGENCY: Environmental Protection Agency (EPA).

ACTION: Proposed rulemaking; extension of public comment period.

SUMMARY: On November 15, 2021, the U.S. Environmental Protection Agency (EPA) published a proposed rule which included new source performance standards (NSPS) and emissions guidelines (EG) for the Crude Oil and Natural Gas source category under the CAA to respond to the President's January 20, 2021, Executive order (E.O.) titled “Protecting Public Health and the Environment and Restoring Science to Tackle the Climate Crisis.” In this proposal, the EPA also requested comments on regulating other types of potential emissions sources and numerous topics associated with the proposed NSPS and EG. EPA has received numerous requests to extend the comment period given the complexity and length of the proposed rulemaking, which is currently January 14, 2022. Accordingly, the EPA is extending the deadline of the comment period to January 31, 2022.

DATES: The public comment period for the proposal published in the Federal Register on November 15, 2021 (86 FR 63110) is extended from January 14, 2022 to January 31, 2022.Written comments must be received on or before January 31, 2022.

ADDRESSES: Comments. You may send comments, identified by Docket ID No. EPA-HQ-OAR-2021-0317, by any of the following methods:

• Federal eRulemaking Portal: https://www.regulations.gov/ (our preferred method). Follow the online instructions for submitting comments.

• Email: a-and-r-docket@epa.gov. Include Docket ID No. EPA-HQ-OAR-2021-0317 in the subject line of the message.

• Fax: (202) 566-9744. Attention Docket ID No. EPA-HQ-OAR-2021-0317.

• Mail: U.S. Environmental Protection Agency, EPA Docket Center, Docket ID No. EPA-HQ-OAR-2021-0317, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operation are 8:30 a.m.-4:30 p.m., Monday-Friday (except Federal holidays).

Instructions: Direct your comments to Docket ID No. EPA-HQ-OAR-2021-0317. The EPA's policy is that all comments received will be included in the public docket without change and may be made available online at https://www.regulations.gov/, including any personal information provided, unless the comment includes information claimed to be CBI or other information whose disclosure is restricted by statute. Do not submit electronically any information that you consider to be CBI or other information whose disclosure is restricted by statute. This type of information should be submitted by mail as discussed below.

Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit https://www.epa.gov/dockets/commenting-epa-dockets.

The https://www.regulations.gov/ website allows you to submit your comment anonymously, which means the EPA will not know your identity or contact information unless you provide it in the body of your comment. If you send an email comment directly to the EPA without going through https://www.regulations.gov/, your email address will be automatically captured and included as part of the comment that is placed in the public docket and made available on the internet. If you submit an electronic comment, the EPA recommends that you include your name and other contact information in the body of your comment and with any digital storage media you submit. If the EPA cannot read your comment due to technical difficulties and cannot contact you for clarification, the EPA may not be able to consider your comment. Electronic files should not include special characters or any form of encryption and should be free of any defects or viruses. For additional information about the EPA's public docket, visit the EPA Docket Center homepage at https://www.epa.gov/dockets.

Out of an abundance of caution for members of the public and EPA staff, the EPA Docket Center and Reading Room are closed to the public, with limited exceptions, to reduce the risk of transmitting COVID-19. The EPA's Docket Center staff will continue to provide remote customer service via email, phone, and webform. The Agency encourages the public to submit comments via https://www.regulations.gov/ or email, as there may be a delay in processing mail and faxes. Hand deliveries and couriers may be received by scheduled appointment only. For further information on EPA Docket Center services, please visit us online at https://www.epa.gov/dockets. The EPA continues to carefully and continuously monitor information from the Centers for Disease Control and Prevention, local area health departments, and our Federal partners so that the Agency can respond rapidly as conditions change regarding COVID-19.

Submitting CBI. Do not submit information containing CBI to the EPA through https://www.regulations.gov/ or email. Clearly mark the part or all of the information that you claim to be CBI. For CBI information on any digital storage media that you mail to the EPA, mark the outside of the digital storage media as CBI and then identify electronically within the digital storage media the specific information that is claimed as CBI. In addition to one complete version of the comments that includes information claimed as CBI, you must submit a copy of the comments that does not contain the information claimed as CBI directly to the public docket through the procedures outlined in Instructions above. If you submit any digital storage media that does not contain CBI, mark the outside of the digital storage media clearly that it does not contain CBI. Information not marked as CBI will be included in the public docket and the EPA's electronic public docket without prior notice. Information marked as CBI will not be disclosed except in accordance with procedures set forth in 40 Code of Federal Regulations (CFR) part 2. Send or deliver information identified as CBI only to the following address: OAQPS Document Control Officer (C404-02), OAQPS, U.S. Environmental Protection Agency, Research Triangle Park, North Carolina 27711, Attention Docket ID No. EPA-HQ-OAR-2021-0317. Note that written comments containing CBI and submitted by mail may be delayed and no hand deliveries will be accepted.

FOR FURTHER INFORMATION CONTACT: For questions about this action, contact Ms. Karen Marsh, Sector Policies and Programs Division (E143-05), Office of Air Quality Planning and Standards, U.S. Environmental Protection Agency, Research Triangle Park, North Carolina 27711; telephone number: (919) 541-1065; fax number: (919) 541-0516; and email address: marsh.karen@epa.gov or Ms. Amy Hambrick, Sector Policies and Programs Division (E143-05), Office of Air Quality Planning and Standards, Environmental Protection Agency, Research Triangle Park, North Carolina 27711, telephone number: (919) 541-0964; facsimile number: (919) 541-3470; email address: hambrick.amy@epa.gov.

SUPPLEMENTARY INFORMATION: On November 15, 2021,¹ the U.S. Environmental Protection Agency (EPA) published a proposed rule that included distinct groups of actions. First, the EPA proposed to revise the new source performance standards (NSPS) for GHGs and volatile organic compounds (VOCs) for the Crude Oil and Natural Gas source category under the Clean Air Act (CAA) to reflect the Agency's most recent review of the feasibility and cost of reducing emissions from these sources. Second, the EPA proposed emissions guidelines (EG) under the CAA, for states to follow in developing, submitting, and implementing state plans to establish performance standards to limit GHGs from existing sources (designated facilities) in the Crude Oil and Natural Gas source category. Third, the proposal included several related actions stemming from the joint resolution of Congress, adopted on June 30, 2021 under the Congressional Review Act (CRA), disapproving the EPA's final rule titled, “Oil and Natural Gas Sector: Emission Standards for New, Reconstructed, and Modified Sources Review.” 85 FR 57018 (September 14, 2020). Finally, in the proposal, the EPA requested comments on potentially regulating other types of emission sources and numerous topics associated with the proposed NSPS and EG. Since publication of the proposal, which specifies that the comment period closes on January 14, 2022 the EPA has received numerous requests from industry and states to extend the comment period due to the lengthy and complex nature of the action. After considering these requests to extend the public comment period, the EPA has decided to extend the public comment period until January 31, 2022. This extension will provide additional time requested by the public to review the proposal and gather and provide information to the Agency.

¹ 86 FR 63110.

Penny Lassiter,
Director, Sector Policy and Programs Division.

[FR Doc. 2021-27312 Filed 12-16-21; 8:45 am]

BILLING CODE 6560-50-P